Proclamation 9311 of August 31, 2015

National Childhood Obesity Awareness Month, 2015

By the President of the United States of America

A Proclamation

Five years ago, our Nation came together to put an end to the preventable epidemic of childhood obesity and observed National Childhood Obesity Awareness Month for the first time. Since then, childhood obesity rates have stopped rising, and we have seen an encouraging drop in obesity rates among children ages 2 to 5 years old. Despite this progress, more work remains to ensure every young person can lead a prosperous and productive life—more than 30 percent of American children are still overweight or obese. This month, we pause to remember our commitment to our Nation's youth and renew our focus on improving the health and well-being of our country's most precious resource.

This year marks the fifth anniversary of First Lady Michelle Obama's Let's Move! initiative, which has partnered with parents, community leaders, and professionals across the public and private sectors to encourage and expand access to the physical activities and nutritious foods that help our kids grow up healthy. Millions of children are now attending schools and day care centers that serve healthier food and ensure kids get the 60 minutes of physical activity a day they need. Across America, city, town, and county governments are supporting these efforts—building communities where kids can safely walk or bike to school, participate in a summer meal program, or join a local athletic league. And we are proud that our Nation's businesses have joined in the fight by working to create healthier kids' menus at restaurants and cut trillions of calories from the food and beverage products children consume. All Americans can do their part to combat childhood obesity, and I invite everyone to visit www.LetsMove.gov to learn more about our accomplishments and find additional resources on how to help children eat well and stay active.

To solve the problem of childhood obesity within a generation, we must ensure the advances we have made are not reversed, including by upholding science-based nutrition standards for school meals. By improving nutritional quality in federally supported school lunches and breakfasts, we are not only ensuring children have access to the nourishing food they need to make healthy choices and succeed in school, but we are also providing the foundation for a stronger, healthier society. As a Nation, we can expand on this progress by working to make sure the same quality food is accessible to all children at home, no matter who they are or where they live. This will require our country to continue focusing on the local availability and affordability of healthy foods—an effort I am committed to supporting as President. Additionally, my Administration is fighting to ensure families have opportunities to be active and get outside together, and that is why we launched our Every Kid in a Park initiative, which provides all fourth graders and their families with free access to our National Parks and other Federal lands for an entire year.

During National Childhood Obesity Awareness Month and throughout the entire year, let us each commit to reaching toward a healthy lifestyle so we can serve as examples of healthy eating and active living for our Nation's children. Eliminating childhood obesity will require every American to play their part, and together we can work toward building healthy, active communities where all children can realize their dreams and meet their full potential.

NOW, THEREFORE, I, BARACK OBAMA, President of the United States of America, by virtue of the authority vested in me by the Constitution and the laws of the United States, do hereby proclaim September 2015 as National Childhood Obesity Awareness Month. I encourage all Americans to learn about and engage in activities that promote healthy eating and greater physical activity by all our Nation's children.

IN WITNESS WHEREOF, I have hereunto set my hand this thirty-first day of August, in the year of our Lord two thousand fifteen, and of the Independence of the United States of America the two hundred and fortieth.

[FR Doc. 2015-22329

Filed 9-2-15; 11:15 am]

Billing code 3295-F5